DEPARTMENT OF HEALTH AND HUMAN SERVICES

National Institutes of Health

Statement of Delegation of Authority

Notice is hereby given that I have delegated to the Director, National Institutes of Health (NIH), the authorities vested in the Secretary of Health and Human Services under Section 2041 of the 21st Century Cures Act (Pub. L. 114-255), as amended, to establish a task force, in accordance with the Federal Advisory Committee Act (5 U.S.C. App.), to be known as the “Task Force on Research Specific to Pregnant Women and Lactating Women”.

These authorities may be redelegated. Exercise of this authority shall be in accordance with established policies, procedures, guidelines, and regulations as prescribed by the Secretary. The Secretary retains the authority to submit reports to Congress, promulgate regulations, appoint members to the Task Force, and to receive advice and guidance from the Task Force, pursuant to section 2041(a)(2).

Dated: January 18, 2017.
Sylvia M. Burwell,
Secretary.

[FR Doc. 2017-01681 Filed 1-24-17; 8:45 am]

BILLING CODE 4140-01-P